CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its AmeriCorps Enrollment Form and AmeriCorps Exit Form. These forms are used by programs to certify members' eligibility to serve and to receive an education award, and are the only source for certain program-related and demographic information.

Copies of the information collection requests can be obtained by contacting the office listed in the address section of this notice.

DATES: Written comments must be submitted to the individual and office listed in the ADDRESSES section by April 2, 2007.

ADDRESSES: You may submit comments, identified by the title of the information collection activity, by any of the following methods:

(1) By mail sent to: Corporation for National and Community Service, National Service Trust; Attention Bruce Kellogg, 1201 New York Avenue, NW., Washington, DC 20525.

(2) By hand delivery or by courier to the Corporation's mailroom at Room 8100 at the mail address given in paragraph (1) above, between 9 a.m. and 4 p.m. Monday through Friday, except Federal holidays.

(3) By fax sent to: (202) 606-3484, Attention Bruce Kellogg.

(4) Electronically through the Corporation's e-mail address system: bkellogg@cns.gov.

FOR FURTHER INFORMATION CONTACT: Bruce Kellogg, (202) 606-6954.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The enrollment and exit forms are completed jointly by members interested in performing a period of national service and by programs providing that opportunity. Upon successfully completing a term of service an AmeriCorps participant may receive an education award that may be used to pay for certain educational expenses or for qualified student loans. Enrollment and exit processing is completed electronically. The paper forms are retained by the programs for audit purposes.

Current Action

The Corporation seeks to renew and revise the current applications. Enrollment form revisions consist of minor formatting and textual changes to add clarity; for example, in providing definitions of the terms ‘citizen’, ‘US national’, and ‘lawful permanent resident alien’. There are no proposed changes to the current exit form.

The application will otherwise be used in the same manner as the existing application. The Corporation also seeks to continue using the current application until the revised application is approved by OMB. The current application is due to expire on April 30, 2007.

Type of Review: Renewal.

Agency: Corporation for National and Community Service.

Title: AmeriCorps Enrollment Form, and AmeriCorps Exit Form.

OMB Number: 3045-0006 (Enrollment) & 3045-0015 (Exit).

Agency Number: None.

Affected Public: Individuals about to participate in an AmeriCorps program (Enrollment) and AmeriCorps members who have ended their term of service (Exit).

Total Respondents: 73,000 annually for each form.

Frequency: Annually.

Average Time Response: Averages 7 minutes for each form (4 minutes for the AmeriCorps member to complete the form, and 3 minutes for the program staff).

Estimated Total Burden Hours: 17,032 for both forms. (8516 enrollment and 8516 for exit)

Total Burden Cost (capital/startup): None.

Total Burden Cost (operating/maintenance): None.

Comments submitted in response to this notice will be summarized and/or included in the request for Office of Management and Budget approval of the information collection request; they will also become a matter of public record.

Dated: January 24, 2007.
Cynthia Wooten,
Manager, National Service Trust.

[FR Doc. E7-1359 Filed 1-29-07; 8:45 am]

BILLING CODE 6050-$$-P